DEPARTMENT OF ENERGY

[Docket No. EA-312]

Application to Export Electric Energy; Emera Energy U.S. Subsidiary No. 2, Inc.

AGENCY: Office of Electricity Delivery and Energy Reliability, DOE.

ACTION: Notice of application.

SUMMARY: Emera Energy U.S. Subsidiary No. 2, Inc. (Emera Sub 2) has applied for authority to transmit electric energy from the United States to Canada pursuant to section 202(e) of the Federal Power Act.

DATES: Comments, protests or requests to intervene must be submitted on or before May 8, 2006.

ADDRESSES: Comments, protests or requests to intervene should be addressed as follows: Office Electricity Delivery and Energy Reliability (Mail Code OE-20), U.S. Department of Energy, 1000 Independence Avenue, SW., Washington, DC 20585-0350 (FAX 202-586-5860).

FOR FURTHER INFORMATION CONTACT: Xavier Puslowski (Program Office), 202-586-4708 or Michael Skinker (Program Attorney), 202-586-2793.

SUPPLEMENTARY INFORMATION: Exports of electricity from the United States to a foreign country are regulated and require authorization under section 202(e) of the Federal Power Act (FPA) (16 U.S.C. 824a(e)).

On April 5, 2006, the Department of Energy (DOE) received an application from Emera Sub 2 to transmit electric energy from the United States to Canada. Emera Sub 2 is a Delaware corporation and wholly-owned indirect subsidiary of Emera Incorporated. Emera Incorporated owns two wholly-owned subsidiaries, Bangor Hydro-Electric Company, a transmission and distribution company providing wholesale and retail service in Maine, and Nova Scotia Power Inc. that serves customers located in Nova Scotia, Canada. Emera Sub 2 does not own or control any transmission or distribution assets, nor does it have a franchised service area. The electric energy which Emera Sub 2 proposes to export to Canada would be purchased from the marketplace and would be surplus to the power needs in the United States.

Emera Sub 2 proposes to arrange for the delivery of electric energy to Canada over the existing international transmission facilities presently owned by Basin Electric Power Cooperative, Bonneville Power Administration, Eastern Maine Electric Cooperative, International Transmission Company, Joint Owners of the Highgate Project, Long Sault, Inc., Maine Electric Power Company, Maine Public Service Company, Minnesota Power Inc., Minnkota Power Cooperative, New York Power Authority, Niagara Mohawk Power Corporation, Northern States Power, and Vermont Electric Transmission Company. The construction, operation, maintenance, and connection of each of the international transmission facilities to be utilized by Emera Sub 2 as more fully described in the application, has previously been authorized by a Presidential permit issued pursuant to Executive Order 10485, as amended.

In its application Emera Sub 2 requests expedited treatment and requests that export authority, if granted, be made effective as of May 1, 2006. In response to the Emera Sub 2 reqest, DOE has shortened the comment period to 15 days.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with DOE on or before the date listed above.

Additional copies are to be filed directly with Calvin Bell, Emera Energy Services, Inc., One Cumberland Place, Suite 102, Bangor, ME 04401; Deborah C. Brentani, Wright & Talisman, P.C., 1200 G Street, NW., Suite 600, Washington, DC 20005 and Richard J. Smith, Assistant Secretary, Emera Energy U.S. Subsidiary No. 2, Inc., c/o Emera Incorporated, 1894 Barrington Street, 18th Flr., Barrington Tower, P.O. Box 910, Halifax, Nova Scotia, Canada B3J 2W5.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the program's Home Page at http://www.fe.doe.gov/programs/electricityregulation/. Upon reaching the Home Page, select “Pending Proceedings.”

Issued in Washington, DC, on April 17, 2006.
Anthony J. Como,
Director, Permitting and Siting, Office of Electricity Delivery and Energy Reliability.

[FR Doc. E6-6033 Filed 4-20-06; 8:45 am]

BILLING CODE 6450-01-P